DEPARTMENT OF TRANSPORTATION

Federal Aviation Administration

14 CFR Part 39

[Docket No. FAA-2013-0262; Directorate Identifier 2013-NE-13-AD; Amendment 39-17548; AD 2013-16-10]

RIN 2120-AA64

Airworthiness Directives; Hamilton Standard Division and Hamilton Sundstrand Corporation Propellers

AGENCY: Federal Aviation Administration (FAA), DOT.

ACTION: Final rule; correction.

SUMMARY: The FAA is correcting an airworthiness directive (AD) that published in the Federal Register. That AD applies to all Hamilton Standard Division model 6/5500/F and 24PF and Hamilton Sundstrand Corporation model 14RF, 14SF, 247F, and 568F series propellers. A maintenance manual number in paragraph (g) of the Compliance section is incorrect. This document corrects that error. In all other respects, the original document remains the same.

DATES: This final rule is effective October 25, 2013. The effective date for AD 2013-16-10 (78 FR 49660, August 15, 2013) remains September 19, 2013.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Michael Schwetz, Aerospace Engineer, Boston Aircraft Certification Office, FAA, 12 New England Executive Park, Burlington, MA 01803; phone: 781-238-7761; fax: 781-238-7170; email: michael.schwetz@faa.gov.

SUPPLEMENTARY INFORMATION: AD 2013-16-10, Amendment 39-17548 (78 FR 49660, August 15, 2013), currently requires incorporating inspections, based on a calendar time, into the propeller maintenance schedule for Hamilton Standard Division model 6/5500/F and 24PF and Hamilton Sundstrand Corporation model 14RF, 14SF, 247F, and 568F series propellers.

As published, the maintenance manual number, P4202, as part of the model/manual number, 247F-1/P4202, in paragraph (g) of the Compliance section is incorrect.

No other part of the preamble or regulatory information has been changed; therefore, only the changed portion of the final rule is being published in the Federal Register.

The effective date for AD 2013-16-10 (78 FR 49660, August 15, 2013) remains September 19, 2013.

Correction of Regulatory Text

§ 39.13 [Corrected]

In the Federal Register of August 15, 2013, on page 49662, in the 1st column, paragraph (g) of AD 2013-16-10 is corrected to read as follows:

* * * * *

(g) MI for Blades and Hubs That Do Not Have an Updated ALS

For Hamilton Standard Division propeller models 6/5500/F and 24PF and Hamilton Sundstrand Corporation propeller models 14RF-19, 14RF-37, 14SF-11, 14SF-15, 14SF-23, 14SF-17, 14SF-19, 247F-1, 247F-1E, 247F-3, 568F-1, 568F-5, and 568F-7, that do not have an approved update to the ALS, within one year after the effective date of this AD, perform an MI on the blades and hubs no later than seven years after the DSI. The DSI will begin at initial installation after the most recent MI or initial installation after production. Guidance on the inspections can be found in the applicable Hamilton Standard Division models/manuals 6/5500/F/P5190 and 24PF/61-12-01, and Hamilton Sundstrand Corporation models/manuals 14RF-19/P5199, 14RF-37/P5209, 14SF-11/P5196, 14SF-15/P5197, 14SF-23/P5197, 14SF-17/P5198, 14SF-19/P5198, 247F-1/P5202, 247F-1E/P5204, 247F-3/P5205, 568F-1/P5214, 568F-5/P5203, and 568F-7/P5211.

* * * * *

Issued in Burlington, Massachusetts, on October 15, 2013.
Colleen M. D'Alessandro,
Assistant Directorate Manager, Engine & Propeller Directorate, Aircraft Certification Service.

[FR Doc. 2013-25108 Filed 10-24-13; 8:45 am]

BILLING CODE 4910-13-P